Proclamation 8534 of June 10, 2010

King Kamehameha Day, 2010

By the President of the United States of America

A Proclamation

Two hundred years ago, King Kamehameha the Great brought the Hawaiian Islands together under a unified government. His courage and leadership earned him a legacy as the “Napoleon of the Pacific,” and today his humanity is preserved in Ke Kanawai Mamalahoe, or “the Law of the Splintered Paddle.” This law protects civilians in times of war and remains enshrined in Hawaii’s constitution as “a unique and living symbol of the State’s concern for public safety.”

On this bicentennial King Kamehameha Day, we celebrate the history and heritage of the Aloha State, which has immeasurably enriched our national life and culture. The Hawaiian narrative is one of both profound triumph and, sadly, deep injustice. It is the story of Native Hawaiians oppressed by crippling disease, aborted treaties, and the eventual conquest of their sovereign kingdom. These grim milestones remind us of an unjust time in our history, as well as the many pitfalls in our Nation’s long and difficult journey to perfect itself. Yet, through the peaks and valleys of our American story, Hawaii’s steadfast sense of community and mutual support shows the progress that results when we are united in a spirit of limitless possibility.

In the decades since their persecution, Native Hawaiians have remained resilient. They are part of the diverse people of Hawaii who, as children of pioneers and immigrants from around the world, carry on the unique cultures and traditions of their forebears. As Americans, we can all admire these traits, as well as the raw natural beauty of the islands themselves. Truly, the Aloha Spirit of Hawaii echoes the American Spirit, representing the opportunities we all have to grow and learn from one another as we carry our Nation toward a brighter day.

NOW, THEREFORE, I, BARACK OBAMA, President of the United States of America, by virtue of the authority vested in me by the Constitution and the laws of the United States, do hereby proclaim June 11, 2010, as King Kamehameha Day. I call upon all Americans to celebrate the rich heritage of Hawaii with appropriate ceremonies and activities.

IN WITNESS WHEREOF, I have hereunto set my hand this tenth day of June, in the year of our Lord two thousand ten, and of the Independence of the United States of America the two hundred and thirty-fourth.

[FR Doc. 2010-14725

Filed 6-15-10; 11:15 am]

Billing code 3195-W0-P